SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: June 1-30, 2023.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists GF Registration for projects described below, pursuant to 18 CFR part 806, subpart E, for the time period specified above:

1. Borough of Freeland Municipal Authority—Public Water Supply System, GF Certificate No. GF-202306252, Freeland Borough, Luzerne County, Pa.; Wells 4, 6, and 10; Issue Date: June 14, 2023.

2. The Hershey Company—19 East Chocolate Ave. Offices, GF Certificate No. GF-202306253, Derry Township, Dauphin County, Pa.; Wells 6, 8, and 12, and Quarry Pumps 16 and 17; Issue Date: June 14, 2023.

3. Knouse Foods Cooperative, Inc.—Biglerville Plant, GF Certificate No. GF-202306254, Butler Township and Biglerville Borough, Adams County, Pa.; combined withdrawal from Wells 2 and 3, combined withdrawal from Wells 4, 5, 6, 7, and 8, and consumptive use; Issue Date: June 14, 2023.

4. Hazleton City Authority—Delano-Park Place Division, GF Certificate No. GF-202306255, Mahanoy Township, Schuylkill County, Pa.; Park Place Well 2; Issue Date: June 15, 2023.

5. Village of Oxford—Public Water Supply System, GF Certificate No. GF-202306256, Town of Oxford, Chenango County, N.Y.; Wells 1 and 2; Issue Date: June 15, 2023.

Authority: Public Law 91-575, 84 Stat. 1509 et seq., 18 CFR parts 806 and 808.

Dated: July 6, 2023.
Jason E. Oyler,
General Counsel and Secretary to the Commission.

[FR Doc. 2023-14678 Filed 7-11-23; 8:45 am]

BILLING CODE 7040-01-P